DEPARTMENT OF DEFENSE

Department of the Navy

[USN-2006-0026]

Privacy Act of 1974; System of Records

AGENCY: Department of the Navy, DoD.

ACTION: Notice to add systems of records.

SUMMARY: The Department of the Navy proposes to add a system of records to its inventory of record systems subject to the Privacy Act of 1974 (5 U.S.C. 552a), as amended.

DATES: The proposed action will be effective on July 14, 2006 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available from the address above.

The proposed systems reports, as required by 5 U.S.C. 552a(r) of the Privacy Act, were submitted on June 6, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 7, 2006.
C.R. Choate,
Alternate OSD Federal Register Liaison Officer, Department of Defense.

NM01700-1

System name:

DON General Moral, Welfare, and Recreation Records.

System location:

Organizational elements of the Department of the Navy. Official mailing addresses are published in the Standard Navy Distribution List that is available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Personnel authorized to use DON-sponsored Morale, Welfare, Recreation (MWR) services, youth services, athletic and recreational services, Armed Forces Recreation Centers, DON recreation machines, and/or to participate in MWR-type activities, to include: Bingo games; professional entertainment groups recognized by the Armed Forces Entertainment; DON athletic team members; ticket holders of athletic events; and units of national youth groups such as Boy Scouts, Girl Scouts, and 4-H Clubs.

Categories of records in the system:

Name; branch of service; home and duty station addresses; home, business, and cell telephone numbers; military/civilian status; Social Security Number; Unit Identification Code (UIC); travel orders/vouchers; security check results; command contact person; boat and mooring storage agreement; insurance information; contact address; contract, waiver, release, and indemnification agreements; check out and control sheets; bingo pay-out control sheet indicating individual name, grade, Social Security Number, duty station, dates and amount of bingo winnings paid; and Internal Revenue Forms W2-G and 5754, (Gambling Winnings and Statement by Person(s) Receiving Gambling Winnings, respectively).

Authority for maintenance of the system:

10 U.S.C. 5013, Secretary of the Navy; 10 U.S.C. 5041, Headquarters, Marine Corps, Section 6041, Internal Revenue Code; BUPERS Instruction 1710.13A, Regulations, Policies and Procedures for Navy Food, Beverage and Entertainment Operations 1996; MCOP-1700.27, Ch1; NAVSO P-3520; and E.O. 9397 (SSN).

Purpose(s):

To administer programs devoted to the mental and physical well-being of DON personnel and other authorized users; to document the approval and conduct of specific contests, shows, entertainment programs, sports activities/competitions, and other MWR-type activities and events sponsored or sanctioned by the DON.

Information will be used to market and promote similar MWR type activities conducted by other DoD organizations.

To provide a means of paying, recording, accounting, reporting, and controlling expenditures and merchandise inventories associated with bingo games.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Internal Revenue Service to report all monies and items of merchandise paid to winners of games whose one-time winnings are $1,200 or more.

The DoD `Blanket Routine Uses' set forth at the beginning of the Army's compilation of systems of records notices also apply to this system.

Policies and practices for storing, retrieving, accessing, retaining, and disposing of records in the system:

Storage:

Paper records in file folders, cards, magnetic tapes, discs, computer printouts, and electronic storage media.

Retrievability:

Name and Social Security Number of patron.

Safeguards:

Password controlled system, file, and element access based on predefined need-to-know. Physical access to terminals, terminal rooms, buildings and activities' grounds are controlled by locked terminals and rooms, guards, personnel screening and visitor registers.

Retention and disposal:

Bingo records are maintained on-site for four years and then shipped to a Federal Records Center for storage for an additional three years. After seven years, records are destroyed.

All other documents are destroyed after 2 years, unless required for current operation.

System manager(s) and address:

Policy Officials: For Navy activities—Commander, Navy Personnel Command (Pers-655C2), 5720 Integrity Drive, Millington, TN 38055-6500; For Marine Corps activities—Commandant of the Marine Corps, Personal and Family Readiness Division (MRX), 3044 Catlin Avenue, Quantico, VA 22134-5099.

Record Holders: Commanding officer of the activity in question. Official mailing addresses are published in the Standard Navy Distribution List that is available at http://neds.daps.dla.mil/sndl.htm.

Notification procedure:

Individuals seeking to determine whether this system of records contains information about themselves should address written inquiries to the commanding officer of the activity in question. Official mailing addresses are published in the Standard Navy Distribution List that is available at http://neds.daps.dla.mil/sndl.htm. The request should include full name, Social Security Number, and address of the individual concerned and should be signed.

Record access procedures:

Individuals seeking access to records about themselves contained in this system of records should address written inquiries to the commanding officer of the activity in question. Official mailing addresses are published in the Standard Navy Distribution List that is available at http://neds.daps.dla.mil/sndl.htm. The request should include full name, Social Security Number, and address of the individual concerned and should be signed.

Contesting record procedures:

The Navy's rules for accessing records, and for contesting contents and appealing initial agency determinations are published in Secretary of the Navy Instruction 5211.5; 32 CFR part 701; or may be obtained from the system manager.

Record source categories:

Individual or group receiving the service and bingo pay-out control sheets.

Exemptions claimed for the system:

None.

[FR Doc. 06-5394 Filed 6-13-06; 8:45 am]

BILLING CODE 5001-06-M